DEPARTMENT OF COMMERCE

National Institute of Standards and Technology

Technology Innovation Program Advisory Board

AGENCY: National Institute of Standards and Technology, Department of Commerce.

ACTION: Notice of public meeting.

SUMMARY: The Technology Innovation Program Advisory Board, National Institute of Standards and Technology (NIST) will meet in open session on Tuesday, November 2, 2010, from 8:30 a.m. to 3:15 p.m. Eastern daylight savings time.

DATES: The meeting will convene Tuesday, November 2, 2010, at 8:30 a.m. and will adjourn at 3:15 p.m.

ADDRESSES: The meeting will be held at the National Institute of Standards and Technology, Advanced Measurement Laboratory, Building 215, Room C103, Gaithersburg, Maryland 20899. Please note admittance instructions under the SUPPLEMENTARY INFORMATION section of this notice.

FOR FURTHER INFORMATION CONTACT: Rene Cesaro, National Institute of Standards and Technology, Gaithersburg, Maryland 20899, telephone number (301) 975-2162. Ms. Cesaro's e-mail address is rene.cesaro@nist.gov.

SUPPLEMENTARY INFORMATION: The Technology Innovation Program (TIP) Advisory Board is composed of ten members appointed by the Director of NIST who are eminent in such fields as business, research, science and technology, engineering, education, and management consulting. The purpose of this meeting is to review and make recommendations regarding general policy for the Technology Innovation Program, its organization, its budget, and its programs within the framework of applicable national policies as set forth by the President and the Congress. The agenda will include a TIP update, a presentation on the TIP critical national need process, and a discussion of potential critical national need areas for future funding. The agenda may change to accommodate Board business. The final agenda will be posted on the TIP Web site at: http://www.nist.gov/tip/. Individuals and representatives of organizations who would like to offer comments and suggestions related to the Board's affairs are invited to request a place on the agenda. On November 2, 2010, approximately one-half hour will be reserved for public comments, and speaking times will be assigned on a first-come, first-serve basis. The amount of time per speaker will be determined by the number of requests received, but is likely to be about three minutes each. Questions from the public will not be considered during this period. Speakers who wish to expand upon their oral statements, those who had wished to speak but could not be accommodated on the agenda, and those who were unable to attend in person are invited to submit written statements to the TIP Advisory Board, National Institute of Standards and Technology, 100 Bureau Drive, MS 4700, Gaithersburg, Maryland 20899, via fax at (301) 975-4032, or electronically by e-mail to lorel.wisniewski@nist.gov.

All visitors to the National Institute of Standards and Technology site will have to pre-register to be admitted. Please submit your name, time of arrival, email address and phone number to Rene Cesaro no later than Friday, October 29, 2010, and she will provide you with instructions for admittance. Ms. Cesaro's e-mail address is rene.cesaro@nist.gov and her phone number is (301) 975-2162.

Harry S. Hertz,
Director, Baldrige National Quality Program.

[FR Doc. 2010-25412 Filed 10-7-10; 8:45 am]

BILLING CODE 3510-13-P